ENVIRONMENTAL PROTECTION AGENCY

[EPA-HQ-OW-2004-0013; FRL 9940-37-OEI]

Information Collection Request Submitted to OMB for Review and Approval; Comment Request; EPA Strategic Plan Information on Source Water Protection

AGENCY: Environmental Protection Agency (EPA).

ACTION: Notice.

SUMMARY: The U.S. Environmental Protection Agency (EPA) has submitted an information collection request (ICR), “EPA Strategic Plan Information on Source Water Protection” (EPA ICR No. 1816.06, OMB Control No. 2040-0197) to the Office of Management and Budget (OMB) for review and approval in accordance with the Paperwork Reduction Act (44 U.S.C. 3501 et seq.). This is a proposed extension of the ICR, which is currently approved through December 31, 2015. Public comments were previously requested via the Federal Register (80 FR 56465) on September 18, 2015, during a 60-day comment period. This notice allows for an additional 30 days for public comments. A fuller description of the ICR is given in this renewal notice, including its estimated burden and cost to the public. An Agency may not conduct or sponsor and a person is not required to respond to a collection of information unless it displays a currently valid OMB control number.

DATES: Additional comments may be submitted on or before January 22, 2016.

ADDRESSES: Submit your comments, referencing Docket ID Number EPA-HQ-OW-2004-0013, to (1) EPA online using http://www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Beth Hall, Drinking Water Protection Division—Prevention Branch, Office of Ground Water and Drinking Water (MC 4606M), Environmental Protection Agency, 1200 Pennsylvania Ave. NW., Washington, DC 20460; telephone number: 202-564-3883; email address: hall.beth@epa.gov.

SUPPLEMENTARY INFORMATION: Supporting documents which explain in detail the information that the EPA will be collecting are available in the public docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Abstract: EPA is collecting, on a voluntary basis, data from states and territories on their progress toward substantial implementation of protection strategies for all community water systems (CWSs). The information to be collected will help states/tribes and EPA understand the progress toward the Agency's goal of increasing the number of CWSs (and the populations they serve) with minimized risk to public health through development and implementation of source water protection strategies for source water areas. In April of 2015, the National Water Program published guidance for meeting the water-related goals in the FY 2014-2018 EPA Strategic Plan. In keeping with this guidance, EPA specifically tracks the percentage of all CWSs that are implementing source water protection and the percentage of the total population which is served by those systems.

Form Numbers: None.

Respondents/affected entities: Entities affected by this action are state and territorial governments.

Respondent's obligation to respond: Voluntary.

Estimated number of respondents: 51 (total).

Frequency of response: Annual.

Total estimated burden: 342 hours (per year). Burden is defined at 5 CFR 1320.03(b).

Total estimated cost: $14,853 (per year).

Changes in the Estimates: There is a decrease of 1,066 hours in the total estimated burden from the existing approved ICR. This decrease is because source water protection programs are maturing. State databases are fully developed and tracking is routine compared to the burden and costs calculated for the existing ICR.

Courtney Kerwin,
Acting Director, Collection Strategies Division.

[FR Doc. 2015-32198 Filed 12-22-15; 8:45 am]

BILLING CODE 6560-50-P